ENVIRONMENTAL PROTECTION AGENCY

[EPA-HQ-OEI-2013-0803; FRL-9913-82-OEI]

Information Collection Request Submitted to OMB for Review and Approval; Comment Request; Toxic Chemical Release Reporting (Renewal)

AGENCY: Environmental Protection Agency (EPA).

ACTION: Notice.

SUMMARY: The Environmental Protection Agency has submitted an information collection request (ICR), “Toxic Chemical Release Reporting (Renewal)” (EPA ICR No. 1363.23, OMB Control No. 2025-0009) to the Office of Management and Budget (OMB) for review and approval in accordance with the Paperwork Reduction Act (44 U.S.C. 3501 et seq.). This is a proposed extension of the ICR, which is currently approved through October 31, 2014. Public comments were previously requested via the Federal Register (79 FR 11783) on March 3, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 27, 2014.

ADDRESSES: Submit your comments, referencing Docket ID Number EPA-HQ-OEI-2013-0803 to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Cassandra Vail, Toxics Release Inventory Program Division, Office of Information Analysis and Access (2844T), Environmental Protection Agency, 1200 Pennsylvania Ave. NW., Washington, DC 20460; telephone number: 202-566-0753; email address: vail.cassandra@epa.gov.

SUPPLEMENTARY INFORMATION: Supporting documents which explain in detail the information that the EPA will be collecting are available in the public docket for this ICR. The docket can be viewed online at www.regulations.gov or in person at EPA Docket Center, WJC West, Room 3334, 1301 Constitution Ave. NW., Washington, DC. The telephone number for the docket Center is 202-566-1744. For additional information about EPA's public docket, visit http://www.epa.gov/dockets.

Abstract: Pursuant to section 313 of EPCRA, certain facilities that manufacture, process, or otherwise use specified toxic chemicals in amounts above reporting threshold levels must submit annually to EPA and to designated State or Tribal officials toxic chemical release forms containing information specified by EPA. 42 U.S.C. 11023. In addition, pursuant to section 6607 of the Pollution Prevention Act (PPA), facilities reporting under section 313 of EPCRA must also report pollution prevention and waste management data, including recycling information, for such chemicals. 42 U.S.C. 13106. EPA compiles and stores these reports in a publicly accessible database known as the Toxics Release Inventory (TRI).

Form numbers: 9350-1, 9350-2, 9350-3.

Respondents/affected entities: Private businesses.

Respondent's obligation to respond: Mandatory per 40 CFR part 372.

Estimated number of respondents: 23,116 (total).

Frequency of response: Annual.

Total estimated burden: 3,555,998 hours (per year). Burden is defined at 5 CFR 1320.03(b).

Total estimated cost: $183,418,377 (per year), includes $0 annualized capital or operation & maintenance costs.

Changes in the estimates: There is an increase of 33,262 hours in the total estimated respondent burden compared with the ICR currently approved by OMB. This increase is due to the lifting of the Administrative Stay of hydrogen sulfide reporting requirements, the addition of ortho-nitrotoluene to the TRI chemical list, and an increase in the number of facilities reporting to TRI.

Spencer Clark,
Acting Director, Collection Strategies Division.

[FR Doc. 2014-17618 Filed 7-25-14; 8:45 am]

BILLING CODE 6560-50-P